SOCIAL SECURITY ADMINISTRATION

[Docket No. SSA 2017-0037]

Privacy Act of 1974; Matching Program

AGENCY: Social Security Administration (SSA).

ACTION: Notice of a new matching program.

SUMMARY: In accordance with the provisions of the Privacy Act, as amended, this notice announces a new matching program with Department of Veterans Affairs (VA), Veterans Benefits Administration (VBA).

This computer matching agreement sets forth the terms, conditions, and safeguards under which VA/VBA will provide SSA with compensation and pension payment data. This disclosure will provide SSA with information necessary to verify an individual's self-certification of eligibility for the Medicare Prescription Drug (Medicare Part D) subsidy (Extra Help). It will also enable SSA to identify individuals who may qualify for Extra Help as part of the agency's Medicare outreach efforts.

DATES: The deadline to submit comments on the proposed matching program is 30 days from the date of publication in the Federal Register. The matching program will be applicable on October 2, 2017, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

Mary Ann Zimmerman,
Acting Executive Director, Office of Privacy and Disclosure, Office of the General Counsel.

Participating Agencies:

SSA and VA/VBA.

AUTHORITY FOR CONDUCTING THE MATCHING PROGRAM:

Legal authorities for SSA to conduct this computer matching are sections 1860D-14(a)(3), 1144(a)(1) and (b)(1) of the Social Security Act (Act) (42 U.S.C. 1395w-114(a)(3), 1320b-14(a)(1) and (b)(1).

PURPOSE(S):

The purpose of this matching program is to set forth the conditions under which VA/VBA will provide SSA with compensation and pension payment data. This disclosure will provide SSA with information necessary to verify an individual's self-certification of eligibility for the Medicare Prescription Drug (Medicare Part D) subsidy (Extra Help). It will also enable SSA to identify individuals who may qualify for Extra Help as part of the agency's Medicare outreach efforts.

SSA will use VA/VBA's data to determine an individual's eligibility for Extra Help and to identify such individuals to the state agencies that administer the Medicare Savings Program (MSP), unless those individuals do not consent to share their information with the state agencies.

Under section 1860D-14 of the Act, SSA is required to determine the eligibility of applicants who self-certify their income, resources, and family size for Extra Help. SSA is responsible for verifying, on a pre-enrollment basis, an applicant's income and resource allegations. SSA periodically redetermines the eligibility and subsidy amounts for these individuals, thereafter. Also, section 1144 of the Act requires SSA to conduct outreach efforts for MSP and subsidized Medicare prescription drug coverage.

CATEGORIES OF INDIVIDUALS:

The individuals whose information is involved in this matching program are:

Medicare beneficiaries who are potentially eligible for Extra Help with their Medicare prescription drug plan costs.

CATEGORIES OF RECORDS:

VA/VBA will furnish SSA with an electronic file containing compensation and pension payment data monthly. The actual matching will take place approximately the first week of every month.

SSA will conduct the match using the Social Security number, name, date of birth, and VA/VBA claim number on both the file and the Medicare Database (MDB). SSA will match VA/VBA's data with data in SSA's MDB system of records, 60-0321 to verify an individual's self-certification of eligibility for Extra Help.

SYSTEM(S) OF RECORDS:

VA/VBA will provide SSA with electronic files containing compensation and pension payment data from its SOR entitled “Compensation, Pension, Education, and Vocational Rehabilitation and Employment Records—VA” (58VA21/22/28), republished with updated name at 74 FR 14865 (April 1, 2009) and last amended at 77 FR 42593 (July 19, 2012).

SSA will match the VA/VBA data with SSA SOR 60-0321, SSA's MDB file, last published at 71 FR 42159 (July 25, 2006) and amended at 72 FR 6973 (December 10, 2007).

The systems of records involved in this matching program have routine uses permitting the disclosures needed to conduct this match.

[FR Doc. 2018-01967 Filed 1-31-18; 8:45 am]

BILLING CODE 4191-02-P